DEPARTMENT OF COMMERCE

International Trade Administration

[A-570-073, C-570-074]

Common Alloy Aluminum Sheet From the People's Republic of China: Initiation of Less-Than-Fair-Value and Countervailing Duty Investigations

AGENCY: Enforcement and Compliance, International Trade Administration, Department of Commerce.

DATES: Applicable November 28, 2017.

FOR FURTHER INFORMATION CONTACT: Erin Kearney, at (202) 482-0167, AD/CVD Operations, Office VI, or Vicki Flynn, at (202) 482-1756, Office of Policy, Enforcement and Compliance, International Trade Administration, U.S. Department of Commerce, 1401 Constitution Avenue NW., Washington, DC 20230.

SUPPLEMENTARY INFORMATION:

Initiation

On the basis of information available to the Department of Commerce (the Department), we are initiating an antidumping duty (AD) investigation, under section 732(a) of the Tariff Act of 1930, as amended (the Act), to determine whether common alloy aluminum sheet (common alloy sheet) from the People's Republic of China (PRC) is being, or is likely to be, sold in the United States at less than fair value within the meaning of section 731 of the Act. We are also initiating a countervailing duty (CVD) investigation, under section 702(a) of the Act, to determine whether the Government of the PRC is providing countervailable subsidies (within the meaning of sections 701 and 771(5) of the Act) with respect to imports of common alloy sheet from the PRC.

We have evidence indicating that the United States price of common alloy sheet from the PRC may be less than the normal value of such or similar merchandise and that imports of common alloy sheet from the PRC may be benefitting from countervailable subsidies. We also have evidence that imports of common alloy sheet from the PRC may be materially injuring, or threatening material injury to, the domestic industry producing common alloy sheet in the United States.

U.S. law provides two mechanisms for the initiation of AD and CVD investigations. Normally, AD and/or CVD investigations are initiated under sections 702(b) and 732(b) of the Act, which specify that AD and/or CVD proceedings “shall be initiated whenever an interested party described in subparagraph (C), (D), (E), (F), or (G) of section 771(9) files a petition with the administering authority, on behalf of an industry, which alleges the elements necessary for the imposition of the duty imposed by {section 701(a) (for CVD) or 731 (for AD)}, and which is accompanied by information reasonably available to the petitioner supporting those allegations.” Investigations may also be initiated under sections 702(a) and 732(a) of the Act, which specify that AD and/or CVD investigations “shall be initiated whenever the administering authority determines, from information available to it, that a formal investigation is warranted into the question of whether the elements necessary for the imposition of a duty under {section 701 (CVD) or 731 (AD)} exist.” Although the Department has rarely invoked this statutory authority, the Department intends to make use of all the tools available under U.S. unfair trade laws, where such action is warranted under the law, to ensure potential unfair trade practices are addressed. To that end, self-initiation of certain AD and CVD cases can address situations where industries are faced with potentially dumped and/or subsidized imports and where the Department received comprehensive detailed information. Although the Department expects that future investigations will normally proceed based on petitions filed by or on behalf of the industry, the Department will take action under Sections 702(a) and 732(a), where warranted, to facilitate the application of the appropriate trade remedy for U.S. industries.

In this instance, we have information warranting an investigation into whether (1) the United States price of common alloy sheet from the PRC may be less than the normal value of such or similar merchandise, (2) imports of common alloy sheet from the PRC may be benefitting from countervailable subsidies, and (3) imports of common alloy sheet from the PRC may be materially injuring, or threatening material injury to, the domestic industry producing common alloy sheet in the United States. Imports of common alloy sheet from the PRC into the United States have been significant since 2005 and have increased rapidly in the last three years.¹ Furthermore, in light of the systemic and significant over-capacity in the Chinese aluminum industry, which has been extensively documented, including in a recent International Trade Commission (ITC) investigation conducted under section 332(g) of the Act,² the U.S. industry is faced with the potential for even further increases in exports from the PRC. In light of the above, among other considerations, the Department is self-initiating AD and CVD investigations of imports of common alloy sheet from the PRC as provided for under sections 702(a) and 732(a) of the Act.

¹ Department Memoranda: Supporting Memorandum for the Initiation of Antidumping Duty Investigation of Common Alloy Aluminum Sheet from the People's Republic of China (AD Initiation Memo), at Exhibit 1A, at Attachment 9, and Supporting Memorandum for the Initiation of Countervailing Duty Investigation of Common Alloy Aluminum Sheet from the People's Republic of China (CVD Initiation Memo), at Exhibit 1A, at Attachment 9. These memoranda are dated concurrently with this notice and on file electronically via Enforcement & Compliance's Antidumping and Countervailing Duty Centralized Electronic Service System (ACCESS). Access to documents filed via ACCESS is also available in the Central Records Unit, Room B8024 of the main Department of Commerce building.

² See Aluminum: Competitive Conditions Affecting the U.S. Industry, Inv. No. 332-557, USITC Pub. 4703 (June 2017), at 39, 68, 161, 241, and 465.

Period of Investigation

Pursuant to 19 CFR 351.204(b), the proposed period of investigation (POI) for the CVD investigation is January 1, 2016 through December 31, 2016 while the proposed POI for the AD investigation is April 1, 2017 through September 30, 2017.

Scope of the Investigations

The product covered by these investigations is common alloy sheet from the PRC. For a full description of the scope of these investigations, see the “Scope of the Investigations,” in the Appendix to this notice.

Comments on Scope of the Investigations

As discussed in the preamble to the Department's regulations,³ we are setting aside a period for interested parties to raise issues regarding product coverage (scope). The Department will consider all comments received from parties and, if necessary, will consult with parties prior to the issuance of the preliminary determinations. If scope comments include factual information (see 19 CFR 351.102(b)(21)), all such factual information should be limited to public information. In order to facilitate preparation of its questionnaires, the Department requests all interested parties to submit such comments by 5:00 p.m. Eastern Time (ET) on December 18, 2017. Any rebuttal comments, which may include factual information, must be filed by 5:00 p.m. ET on December 28, 2017.

³ See Antidumping Duties; Countervailing Duties, 62 FR 27296, 27323 (May 19, 1997).

The Department requests that any factual information the parties consider relevant to the scope of the investigations be submitted during this time period. However, if a party subsequently finds that additional factual information pertaining to the scope of the investigations may be relevant, the party may contact the Department and request permission to submit the additional information. All such comments must also be filed on the records of the concurrent AD and CVD investigations.

Filing Requirements

All submissions to the Department must be filed electronically using ACCESS.⁴ An electronically filed document must be received successfully in its entirety by the time and date when it is due. Documents excepted from the electronic submission requirements must be filed manually (i.e., in paper form) with Enforcement & Compliance's APO/Dockets Unit, Room 18022, U.S. Department of Commerce, 1401 Constitution Avenue NW., Washington, DC 20230, and stamped with the date and time of receipt by the applicable deadlines.

⁴ See 19 CFR 351.303 (describing general filing requirements); see also Antidumping and Countervailing Duty Proceedings: Electronic Filing Procedures; Administrative Protective Order Procedures, 76 FR 39263 (July 6, 2011) and Enforcement and Compliance; Change of Electronic Filing System Name, 79 FR 69046 (November 20, 2014) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department requests comments from interested parties regarding the appropriate physical characteristics of common alloy sheet to be reported in response to the Department's AD questionnaires. This information will be used to identify the key physical characteristics of the subject merchandise in order to report the relevant factors and costs of production accurately as well as to develop appropriate product-comparison criteria.

Interested parties may provide any information or comments that they believe are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe common alloy sheet, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaire, all comments must be filed by 5:00 p.m. ET on December 18, 2017. Any rebuttal comments, which may include factual information, must be filed by 5:00 p.m. ET on December 28, 2017. All comments and submissions to the Department must be filed electronically using ACCESS, as explained above, on the record of the less-than-fair-value investigation.

Injury Test

Because the PRC is a “Subsidies Agreement Country” within the meaning of section 701(b) of the Act, section 701(a)(2) of the Act applies to the CVD investigation. Accordingly, the ITC must determine whether imports of the subject merchandise from the PRC materially injure, or threaten material injury to, a U.S. industry.

Evidence of Material Injury, Threat of Material Injury, and Causation

The Department has evidence indicating that the U.S. industry producing the domestic like product ⁵ may be materially injured, or may be threatened with material injury, by reason of imports of the subject merchandise that may be benefitting from countervailable subsidies and may be sold at less than normal value (NV). In addition, the subject imports exceed the negligibility threshold provided for under section 771(24)(A) of the Act.⁶

⁵ For a discussion of the domestic like product analysis in this case, see AD Initiation Memo and CVD Initiation Memo, at “Definition of Domestic Industry.”

⁶ See AD Initiation Memo and CVD Initiation Memo, at “Negligibility.”

Information considered by the Department indicates that the industry's injured condition is illustrated by reduced market share; underselling and price suppression or depression; decreasing U.S. shipment and production trends, as well as low capacity utilization rates; increasing volumes of imports from the PRC; plant and facility closures; and deterioration in financial performance. In addition, the information indicates a threat of material injury by reason of the imports from the PRC based on the vulnerability of the domestic industry to material injury; the rapid increase in the volume and market penetration of subject imports; continued underselling and price suppression or depression; countervailable subsidies received by common alloy sheet producers in the PRC; and significant unused capacity available to PRC producers of common alloy sheet to increase production for exportation.⁷

⁷ See AD Initiation Memo; see also CVD Initiation Memo.

Sales at Less-Than-Fair Value

The following is a description of the evidence of sales at less-than-fair value upon which the Department based its decision to initiate an AD investigation of imports of common alloy sheet from the PRC. The sources of data for the deductions and adjustments relating to U.S. price and NV are discussed in greater detail in the AD Initiation Memo.

Export Price

The Department calculated two export prices (EP) based on (1) the average unit value (AUV) of combined imports of common alloy sheet under the relevant Harmonized Tariff Schedule of the United States (HTSUS) subheadings for this product (7060.11.3060, 7060.11.6000, 7606.12.3090, 7606.12.6000, 7606.91.3090, 7606.91.6080, 7606.92.3090, 7606.92.6080) from the PRC during the POI; and (2) the AUV of imports of common alloy sheet under HTSUS subheading 7606.12.3090 from the PRC during the POI, which accounted for over 90 percent of total imports of subject merchandise. The Department deducted foreign inland freight, foreign brokerage and handling, and unrebated Value-Added Tax (VAT) to obtain ex-factory prices, in accordance with our normal practice for calculating EPs.⁸

⁸ See AD Initiation Memo, at “U.S. Price.”

Normal Value

The Department considers the PRC to be a non-market economy (NME) country.⁹ In accordance with section 771(18)(C)(i) of the Act, any determination that a foreign country is an NME country shall remain in effect until revoked by the Department. Therefore, we continue to treat the PRC as an NME country for purposes of the initiation of this AD investigation. Accordingly, the NV of the product is appropriately based on factors of production (FOPs) valued in a surrogate market economy country, in accordance with section 773(c) of the Act.

⁹ See Antidumping Duty Investigation of Certain Aluminum Foil from the People's Republic of China: Affirmative Preliminary Determination of Sales at Less-Than-Fair Value and Postponement of Final Determination, 82 FR 50858, 50861 (November 2, 2017) and accompanying decision memorandum, China's Status as a Non-Market Economy.

South Africa is an appropriate surrogate country because it is a market economy country that is at a level of economic development comparable to that of the PRC, it is a significant producer of comparable merchandise, and public information pertaining to South Africa is available to value the FOPs.¹⁰ Interested parties will have the opportunity to submit comments regarding surrogate country selection and, pursuant to 19 CFR 351.301(c)(3)(i), will be provided an opportunity to submit publicly available information to value FOPs within 30 days before the scheduled date of the preliminary determination.

¹⁰ See AD Initiation Memo at 3-7 (citing Department Memorandum: “Request for a List of Surrogate Countries for an Antidumping Investigation on Cast Soil Iron Pipe Fittings (CSIPF) from the People's Republic of China (China),” dated November 7, 2017); see also Potassium Permanganate from the People's Republic of China: Preliminary Results of the 2015 Antidumping Duty Administrative Review, 81 FR 89897 (December 13, 2016) (Potassium Permanganate from the PRC Preliminary Decision) and accompanying Preliminary Decision Memorandum (PDM) (unchanged in Potassium Permanganate from the People's Republic of China: Final Results of Antidumping Duty Administrative Review; 2015, 82 FR 28044 (June 20, 2017) (Potassium Permanganate from the PRC)) and accompanying Issues and Decision Memorandum (IDM)).

Factors of Production

We based the FOPs for materials, labor, and energy on the consumption rates of certain producers of common alloy sheet in the United States.¹¹ The production process for common alloy sheet is similar regardless of whether the product is produced in the United States or in the PRC.¹² We valued the estimated FOPs using surrogate values from South Africa, as discussed below.¹³

¹¹ See AD Initiation Memo.

¹² Id.

¹³ Id.

Valuation of Raw Materials

We valued the FOPs for raw materials using public import data for South Africa obtained from the Global Trade Atlas (GTA) for the POI.¹⁴ We excluded all import data from countries previously determined by the Department to maintain broadly available, non-industry-specific export subsidies and from countries previously determined by the Department to be NME countries. In addition, in accordance with the Department's practice, we excluded imports that were labeled as originating from an unidentified country.¹⁵

¹⁴ See AD Initiation Memo; see also Potassium Permanganate from the PRC Preliminary Decision and accompanying PDM at 14 (unchanged in Potassium Permanganate from the PRC).

¹⁵ See AD Initiation Memo at 4-7.

Valuation of Energy

We valued natural gas using the AUV of imports of liquid natural gas into South Africa.¹⁶ We valued electricity using electricity rates reported by Eskom, South Africa's electricity public utility.¹⁷

¹⁶ Id.

¹⁷ Id., at 6; see also Potassium Permanganate from the PRC Preliminary Decision and accompanying PDM at 14 (unchanged in Potassium Permanganate from the PRC).

Valuation of Labor

We valued labor using labor data published by Statistics South Africa (SSA), the national statistics service of South Africa.¹⁸ SSA is the official South African source for government employment and earnings data.¹⁹

¹⁸ See AD Initiation Memo.

¹⁹ Id.

Valuation of Packing Materials

We determined the FOPs for packing materials based on the experience of U.S. producers of common alloy sheet in packing their own products.²⁰ We valued the packing materials based on South African import values.²¹ We valued labor expenses for packing based on the hourly rates derived from the aforementioned labor data from the SSA.²²

²⁰ Id.

²¹ Id.; see also Potassium Permanganate from the PRC Preliminary Decision and accompanying PDM at 14 (unchanged in Potassium Permanganate from the PRC).

²² See AD Initiation Memo.

Valuation of Factory Overhead, Selling, General and Administrative Expenses, and Profit

We calculated ratios for factory overhead, selling, general and administrative expenses based on the 2016 consolidated financial statements of Hulamin Ltd. (Hulamin), a South African producer of common alloy sheet.²³ We calculated a profit rate for Hulamin by dividing its operating profit before taxes by the sum of cost of sales and SG&A expenses. We multiplied that rate by the total cost of production to obtain a profit value. The resulting profit value was added to the cost of production value to arrive at total cost of production plus profit for the product.²⁴

²³ Id.; see also Potassium Permanganate from the PRC Preliminary Decision and accompanying PDM at 15-16 (unchanged in Potassium Permanganate from the PRC).

²⁴ See AD Initiation Memo, at 7.

Fair Value Comparisons

Based on the data obtained by the Department, there is reason to believe that imports of common alloy sheet from the PRC are being, or are likely to be, sold in the United States at less-than-fair value. Based on comparisons of EP to NV, in accordance with section 773(c) of the Act, the estimated dumping margins for common alloy sheet from the PRC are 56.54 percent and 59.72 percent.²⁵

²⁵ Id., at “Estimated Margins.”

Initiation of Less-Than-Fair-Value Investigation

Section 732(a) of the Act states that the Department shall initiate an antidumping duty investigation whenever it determines, from information available to it, that a formal investigation is warranted into the question of whether the elements necessary for the imposition of a duty under section 731 exists. Pursuant to section 732(a) of the Act, on the basis of information available to the Department, we are initiating an AD investigation to determine whether imports of common alloy sheet from the PRC are being, or are likely to be, sold in the United States at less-than-fair value. In accordance with section 733(b)(1)(A) of the Act and 19 CFR 351.205(b)(1), unless postponed, we intend to make our preliminary AD determination no later than 140 days after the date of this initiation.

Respondent Selection for AD Investigation

In accordance with our standard practice for respondent selection in AD cases involving NME countries, we intend to issue quantity and value (Q&V) questionnaires to known producers/exporters of merchandise subject to the investigation and, if necessary, base respondent selection on the responses received. In addition, the Department will post the Q&V questionnaire along with filing instructions on the Enforcement and Compliance Web site at http://www.trade.gov/enforcement/news.asp.

Producers/exporters of common alloy sheet from the PRC that do not receive Q&V questionnaires by mail may still submit a response to the Q&V questionnaire and can obtain a copy from the Enforcement & Compliance Web site. The Q&V response must be submitted by the relevant PRC exporters/producers no later than 5:00 p.m. ET on December 13, 2017. All Q&V responses must be filed electronically via ACCESS.

Separate Rates

In order to obtain separate-rate status in an NME AD investigation, exporters and producers must submit a separate-rate application.²⁶ The specific requirements for submitting a separate-rate application in the PRC AD investigation are outlined in detail in the application itself, which is available on the Department's Web site at http://enforcement.trade.gov/nme/nme-sep-rate.html. The separate-rate application will be due 30 days after publication of this initiation notice.²⁷ Exporters and producers who submit a separate-rate application and have been selected as mandatory respondents will be eligible for consideration for separate-rate status only if they respond to all parts of the Department's AD questionnaire as mandatory respondents. The Department requires that companies from the PRC submit a response to both the Q&V questionnaire and the separate-rate application by the respective deadlines in order to receive consideration for separate-rate status. Companies not filing a timely Q&V response will not receive separate rate consideration.

²⁶ See Policy Bulletin 05.1: Separate-Rates Practice and Application of Combination Rates in Antidumping Investigation Involving Non-Market Economy Countries (April 5, 2005), available at http://enforcement.trade.gov/policy/bull05-1.pdf (Policy Bulletin 05.1).

²⁷ Although in past investigations this deadline was 60 days, consistent with 19 CFR 351.301(a), which states that “the Secretary may request any person to submit factual information at any time during a proceeding,” this deadline is now 30 days.

Use of Combination Rates

In an NME AD investigation, the Department will calculate combination rates for certain respondents that are eligible for a separate rate in that investigation. The Separate Rates and Combination Rates Bulletin states:

{W}hile continuing the practice of assigning separate rates only to exporters, all separate rates that the Department will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.²⁸

²⁸ See Policy Bulletin 05.1: Separate-Rates Practice and Application of Combination Rates in Antidumping Investigation Involving Non-Market Economy Countries (April 5, 2005), available at http://enforcement.trade.gov/policy/bull05-1.pdf (Policy Bulletin 05.1).

Initiation of Countervailing Duty Investigation

Section 702(a) of the Act states that the Department shall initiate a CVD investigation whenever it determines that a formal investigation is warranted into the question of whether the elements necessary for an imposition of a duty under section 701(a) of the Act exist based on information available to the Department.

On the basis of information available to the Department, producers/exporters of common alloy sheet in the PRC may benefit from countervailable subsidies bestowed by the Government of the PRC. Pursuant to section 702(a) of the Act, on the basis of information available to the Department, we are initiating a CVD investigation to determine whether manufacturers, producers, or exporters of common alloy sheet from the PRC receive countervailable subsidies from the Government of the PRC. Based on information available to the Department, we find that there is sufficient information to initiate a CVD investigation on 26 programs. For a full discussion of the basis for our decision to initiate on each program, see CVD Initiation Memo.

In accordance with section 703(b)(1) of the Act and 19 CFR 351.205(b)(1), unless postponed, we will make our preliminary CVD determination no later than 65 days after the date of this initiation.

Respondent Selection in CVD Investigation

Following standard practice in CVD investigations, in the event the Department determines that the number of producers/exporters of common alloy sheet in the PRC is large and it cannot individually examine each company based upon the Department's resources, where appropriate, the Department intends to select respondents based on U.S. Customs and Border Protection (CBP) data for U.S. imports of common alloy sheet during the POI under the appropriate HTSUS subheadings listed in the “Scope of the Investigations,” in the Appendix. We intend to release the CBP data under APO to all parties with access to information protected by APO within five business days of this initiation. Interested parties may submit comments regarding the CBP data and respondent selection by 5:00 p.m. ET seven calendar days after the placement of the CBP data on the record of this investigation. The Department will not accept rebuttal comments regarding the CBP data or respondent selection.

Interested parties must submit applications for disclosure under APO in accordance with 19 CFR 351.305(b). Instructions for filing such applications may be found at http://enforcement.trade.gov/apo/.

Comments must be filed electronically using ACCESS. An electronically-filed document must be received successfully, in its entirety, by ACCESS no later than 5:00 p.m. ET on the date noted above. If respondent selection is appropriate, we intend to finalize our decisions regarding respondent selection within 20 days of publication of this notice.

ITC Notification

We will notify the ITC of our initiation, as required by sections 702(d) and 732(d) of the Act.

Preliminary Determinations by the ITC

The ITC will preliminarily determine, within 45 days after the date on which the ITC receives notice from the Department that an investigation has been initiated, whether there is a reasonable indication that imports of common alloy sheet from the PRC are materially injuring or threatening material injury to a U.S. industry.²⁹ A negative ITC determination will result in the investigations being terminated; ³⁰ otherwise, these investigations will proceed according to statutory and regulatory time limits.

²⁹ See sections 793(a) and 733(a) of the Act.

³⁰ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, must specify under which subsection of 19 CFR 351.102(b)(21) the information is being submitted ³¹ and, if the information is submitted to rebut, clarify, or correct factual information already on the record, to provide an explanation identifying the information already on the record that the factual information seeks to rebut, clarify, or correct.³² Time limits for the submission of factual information are addressed in 19 CFR 351.301, which provides specific time limits based on the type of factual information being submitted. Interested parties should review the regulations prior to submitting factual information in these investigations.

³¹ See 19 CFR 351.301(b).

³² See 19 CFR 351.301(b)(2).

Extensions of Time Limits

Parties may request an extension of time limits before the expiration of a time limit established under 19 CFR 351, or as otherwise specified by the Secretary. In general, an extension request will be considered untimely if it is filed after the expiration of the time limit established under 19 CFR 351 expires. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.³³ Parties are hereby reminded that revised certification requirements are in effect for company/government officials, as well as their representatives. Investigations initiated on or after August 16, 2013, and other segments of any AD or CVD proceedings initiated on or after August 16, 2013, should use the formats for the revised certifications provided at the end of the Final Rule.³⁴ The Department intends to reject factual submissions if the submitting party does not comply with applicable revised certification requirements.

³³ See section 782(b) of the Act.

³⁴ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under administrative protective order (APO) in accordance with 19 CFR 351.305. On January 22, 2008, the Department published Antidumping and Countervailing Duty Proceedings: Documents Submission Procedures; APO Procedures, 73 FR 3634 (January 22, 2008).

Parties wishing to participate in these investigations should ensure that they meet the requirements of these procedures (e.g., the filing of letters of appearance as discussed in 19 CFR 351.103(d)).

Under the Trade Preferences Extension Act of 2015, numerous amendments to the AD and CVD laws were made.³⁵ The 2015 law does not specify dates of application for those amendments. On August 6, 2015, the Department published an interpretative rule, in which it announced the applicability dates for each amendment to the Act, except for amendments contained in section 771(7) of the Act, which relate to determinations of material injury by the ITC.³⁶ The amendments to sections 771(15), 773, 776, and 782 of the Act are applicable to all determinations made on or after August 6, 2015, and, therefore, apply to these AD and CVD investigations.³⁷

³⁵ See Trade Preferences Extension Act of 2015, Public Law 114-27, 129 Stat. 362 (2015).

³⁶ See Dates of Application of Amendments to the Antidumping and Countervailing Duty Laws Made by the Trade Preferences Extension Act of 2015, 80 FR 46793 (August 6, 2015) (Applicability Notice).

³⁷ Id. at 46794-95. The 2015 amendments may be found at https://www.congress.gov/bill/114th-congress/house-bill/1295/text/pl.

This notice is issued and published pursuant to sections 702(a), 732(a), and 777(i) of the Act and 19 CFR 351.201(b).

Dated: November 28, 2017.
Gary Taverman,
Deputy Assistant Secretary for Antidumping and Countervailing Duty Operations performing the non-exclusive functions and duties of the Assistant Secretary for Enforcement and Compliance.

Appendix—Scope of the Investigations

The merchandise covered by these investigations is aluminum common alloy sheet (common alloy sheet), which is a flat-rolled aluminum product having a thickness of 6.3 mm or less, but greater than 0.2 mm, in coils or cut-to-length, regardless of width. Common alloy sheet within the scope of these investigations includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the investigations if performed in the country of manufacture of the common alloy sheet.

Excluded from the scope of these investigations is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3090, 7606.12.6000, 7606.91.3090, 7606.91.6080, 7606.92.3090, and 7606.92.6080. Further, merchandise that falls within the scope of these investigations may also be entered into the United States under HTSUS subheadings 7606.11.3030, 7606.12.3030, 7606.91.3060, 7606.91.6040, 7606.92.3060, 7606.92.6040, 7607.11.9090. Although the HTSUS subheadings are provided for convenience and customs purposes, the written description of the scope of these investigations is dispositive.

[FR Doc. 2017-26068 Filed 12-1-17; 8:45 am]

BILLING CODE 3510-DS-P